DEPARTMENT OF COMMERCE

Foreign-Trade Zones Board

[B-46-2024]

Foreign-Trade Zone (FTZ) 84, Notification of Proposed Production Activity; voestalpine High Performance Metals LLC d/b/a voestalpine Specialty Metals; (Specialty Metal Products); Houston, Texas

voestalpine High Performance Metals LLC submitted a notification of proposed production activity to the FTZ Board (the Board) for its facilities in Houston, Texas within FTZ 84. The notification conforming to the requirements of the Board's regulations (15 CFR 400.22) was received on August 12, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: cold-formed steel shapes; hot-rolled steel; steel bar; drilled and honed seamless copper tube; bars of nickel and nickel alloy, drilled and honed seamless steel and nickel tube; and copper bars, rods and profiles (duty rate ranges from duty-free to 3%).

The proposed foreign-status materials/components include: cold-formed steel shapes; hot-rolled steel; steel bar; bars of nickel and nickel alloy, drilled and honed seamless steel and nickel tube; and copper bars, rods and profiles (duty rate ranges from duty-free to 3%). The request indicates that certain materials/components may be subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is September 30, 2024.

A copy of the notification will be available for public inspection in the “Online FTZ Information System” section of the Board's website.

For further information, contact Kolade Osho at Kolade.Osho@trade.gov.

Dated: August 14, 2024.
Elizabeth Whiteman,
Executive Secretary.

[FR Doc. 2024-18515 Filed 8-16-24; 8:45 am]

BILLING CODE 3510-DS-P